DEPARTMENT OF AGRICULTURE

Forest Service

Southern New Mexico Resource Advisory Committee

AGENCY: Forest Service, USDA.

ACTION: Notice of meeting.

SUMMARY: The Southern New Mexico Resource Advisory Committee will meet in Socorro, New Mexico. The committee is authorized under the Secure Rural Schools and Community Self-Determination Act (Pub. L 110-343) (the Act) and operates in compliance with the Federal Advisory Committee Act. The purpose of the committee is to improve collaborative relationships and to provide advice and recommendations to the Forest Service concerning projects and funding consistent with the title II of the Act. The meeting is open to the public. The purpose of the meeting is to review project proposals to be initiated with title II funds.

DATES: The meeting will be held August 25, 2011, 8 a.m.

ADDRESSES: The meeting will be held at Socorro County Annex Building, 198 Neel Avenue. The public may access the teleconference by calling the conference bridge number at 1-877-855-4797 and authorization code 6540381V starting at 8:30 a.m. Written comments may be submitted as described under SUPPLEMENTARY INFORMATION. All comments, including names and addresses when provided, are placed in the record and are available for public inspection and copying. The public may inspect comments received at the Wilderness Ranger District, HC 68 Box 50, Mimbres, NM 88049-9301. Please call ahead to 575-536-2250 to facilitate entry into the building to view comments.

FOR FURTHER INFORMATION CONTACT: Mr. Al Koss, Designated Federal Official, 575-536-2250 or akoss@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION.

SUPPLEMENTARY INFORMATION: The following business will be conducted: (1) Review of project proposals for initiation of title II funds; and (2) Public comment. The full agenda and order of proposal presentations can be found at https://fsplaces.fs.fed.us/fsfiles/unit/wo/secure_rural_schools.nsf/RAC/Southern+New+Mexico?OpenDocument.

Anyone who would like to bring related matters to the attention of the committee may file written statements with the committee staff before or after the meeting. The agenda will include time for people to make oral statements of three minutes or less. Individuals wishing to make an oral statement should request in writing by August 15 to be scheduled on the agenda.

Written comments and requests for time for oral comments must be sent to Patti Turpin, Lincoln National Forest, 3463 Las Palomas Road, Alamogordo, New Mexico, 88310, or by e-mail to pturpin@fs.fed.us, or via facsimile to 575-434-7218. A summary of the meeting will be posted at https://fsplaces.fs.fed.us/fsfiles/unit/wo/secure_rural_schools.nsf/RAC/Southern+New+Mexico?OpenDocument within 21 days of the meeting.

July 29, 2011.
Alan E. Koss,
Designated Federal Official.

[FR Doc. 2011-19616 Filed 8-2-11; 8:45 am]

BILLING CODE 3410-11-P